ENVIRONMENTAL PROTECTION AGENCY

40 CFR Part 180

[EPA-HQ-OPP-2010-0756; FRL-8844-7]

Technical Amendments to Pesticide Regulations

AGENCY: Environmental Protection Agency (EPA).

ACTION: Final rule.

SUMMARY: EPA is issuing this technical amendment to change references in several sections of 40 CFR part 180. These changes are necessary because of a final rule which was issued in the Federal Register of June 8, 2005. That final rule made miscellaneous changes to 40 CFR part 180 to update generic provisions of EPA's procedural regulations relating to pesticide chemicals. The update was made necessary because of various changes made by the Food Quality Protection Act of 1996.

DATES: This final rule is effective September 15, 2010.

ADDRESSES: EPA has established a docket for this action under docket identification (ID) number EPA-HQ-OPP-2010-0756. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Kathryn Boyle, Field and External Affairs Division, Office of Pesticide Programs, Environmental Protection Agency, 1200 Pennsylvania Ave., NW., Washington, DC 20460-0001; telephone number: (703) 305-6304; fax number: (703) 305-5884; e-mail address: boyle.kathryn@epa.gov.

SUPPLEMENTARY INFORMATION:

I. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

II. Background

A. What Action is the Agency Taking?

EPA is issuing this technical amendment to change references in several sections of 40 CFR part 180. These changes are necessary because of a final rule which was issued in the Federal Register of June 8, 2005 (70 FR 33354) (FRL-7706-9). That final rule made miscellaneous changes to 40 CFR part 180 to update generic provisions of EPA's procedural regulations relating to pesticide chemicals. The update was made necessary because of various changes made by the Food Quality Protection Act of 1996.

Several amendments were made to § 180.1. One of the amendments removed § 180.1(d) while another amendment redesignated § 180.1(e) through § 180.1(p) as new § 180.1(d) through § 180.1(o). There are numerous references throughout 40 CFR part 180, subpart C to the definition of the term “regional registration.” Before the redesignation, the definition for “regional registration” was codified in § 180.1(n); however, with the redesignation the definition was moved to § 180.1(m). At that time there were no conforming amendments to make the necessary adjustments to the references found in other sections in 40 CFR part 180, subpart c. Therefore, most of the references to the definition of “regional registration” still indicate that the term is codified in § 180.1(n) rather than indicating that the term is now codified in § 180.1(m). This technical amendment merely corrects the reference to the definition of the term “regional registration.”

Additionally, § 180.40(b) references § 180.1(h) for a listing of commodities for which established tolerances may be applied to certain other related and similar commodities. With the redesignation that occurred, the listing is now in § 180.1(g). This technical amendment also corrects § 180.40(b).

B. What is the Agency's Authority for Taking this Action?

This technical amendment is being issued under authority of 21 U.S.C. 321(q), 346a and 371.

III. Statutory and Executive Order Reviews

These technical amendments merely change references in the EPA regulations governing pesticide tolerances. The amendments are procedural in nature and do not have any impact on regulated parties or the public. A complete statutory and Executive Order review was provided in the procedural regulation that was printed on June 8, 2005 (70 FR 33354) (FRL-7706-9).

IV. Congressional Review Act

The Congressional Review Act, 5 U.S.C. 801 et seq., generally provides that before a rule may take effect, the Agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 180

Environmental protection, Administrative practice and procedure, Agricultural commodities, Pesticides and pest.

Dated: September 7, 2010.
William R. Diamond,
Acting Director, Office of Pesticide Programs.

Therefore, 40 CFR chapter I is amended as follows:

PART 180— [AMENDED]

1. The authority citation for part 180 continues to read as follows:

Authority: 21 U.S.C. 321(q), 346a and 371.

Part 180 [Amended]

2. In part 180 make the changes that appear in the following table:

In Section and paragraph | Revise the Reference | To Read
§ 180.40(b) | § 180.1(h) | § 180.1(g)
§ 180.106(c) introductory text | § 180.1(n) | § 180.1(m)
§ 180.123(c) introductory text | § 180.1(n) | § 180.1(m)
§ 180.145(c) introductory text | § 180.1(n) | § 180.1(m)
180.205(c) introductory text | § 180.1(n) | § 180.1(m)
180.222(c) introductory text | § 180.1(n) | § 180.1(m)
180.253(c) introductory text | § 180.1(n) | § 180.1(m)
180.254(c) introductory text | § 180.1(n) | § 180.1(m)
180.259(c) introductory text | § 180.1(n) | § 180.1(m)
180.261(c) introductory text | § 180.1(n) | § 180.1(m)
180.275(c) introductory text | § 180.1(n) | § 180.1(m)
180.284(c) introductory text | § 180.1(n) | § 180.1(m)
180.294(c) introductory text | § 180.1(n) | § 180.1(m)
180.298(c) introductory text | § 180.1(n) | § 180.1(m)
180.300(c) | § 180.1(n) | § 180.1(m)
180.304(c) introductory text | § 180.1(n) | § 180.1(m)
180.315(b) introductory text | § 180.1(n) | § 180.1(m)
180.349(c) introductory text | § 180.1(n) | § 180.1(m)
180.355(c) introductory text | § 180.1(n) | § 180.1(m)
180.396(c) introductory text | § 180.1(n) | § 180.1(m)
180.399(c) introductory text | § 180.1(n) | § 180.1(m)
180.401(b) introductory text | § 180.1(n) | § 180.1(m)
180.408(c) introductory text | § 180.1(n) | § 180.1(m)
180.415(c) introductory text | § 180.1(n) | § 180.1(m)
180.432(c) introductory text | § 180.1(n) | § 180.1(m)
180.441(c) introductory text | § 180.1(n) | § 180.1(m)
180.447(c) introductory text | § 180.1(n) | § 180.1(m)
180.448(c) introductory text | 40 CFR 180.1(n) | § 180.1(m)
180.451(c) introductory text | § 180.1(n) | § 180.1(m)
180.494(c) introductory text | § 180.1(n) | § 180.1(m)
180.503(c) introductory text | § 180.1(n) | § 180.1(m)
180.573(c) introductory text | § 180.1(n) | § 180.1(m)
180.587(c) introductory text | Sec. 180.1(n) | § 180.1(m)

[FR Doc. 2010-22855 Filed 9-14-09; 8:45 am]

BILLING CODE 6560-50-S